ENVIRONMENTAL PROTECTION AGENCY

[EPA-HQ-OPP-2005-0220; FRL-8875-7]

Dicofol; Notice of Receipt of Request To Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of an irrevocable request by the registrants to voluntarily cancel their registrations of all products containing the pesticide dicofol. The request would terminate the last dicofol products registered for use in the United States. EPA intends to grant this request at the close of the comment period for this announcement unless the Agency receives substantive comments within the comment period that would merit further review of the request. If this request is granted, any sale, distribution, or use of products listed in this notice will be permitted after the registrations have been cancelled only if such sale, distribution, or use is consistent with the terms as described in the final order.

DATES: Comments must be received on or before July 22, 2011.

ADDRESSES: Submit your comments, identified by docket identification (ID) number EPA-HQ-OPP-2005-0220, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2005-0220. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although, listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Susan Bartow, Pesticide Re-evaluation Division (7508P), Office of Pesticide Programs, Environmental Protection Agency, 1200 Pennsylvania Ave., NW., Washington, DC 20460-0001; telephone number: (703) 603-0065; fax number: (703) 308-8090; e-mail address: bartow.susan@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests To Cancel and/or Amend Registrations To Delete Uses

This notice announces receipt by EPA of a request from registrants Agan Chemical Manufacturing, Ltd. and Makhteshim Agan of North America, Inc. to cancel dicofol product registrations. Dicofol is an organochlorine miticide which is registered for use on beans (dry, lima, and green), cotton, hops, mint, peppers, tomatoes, citrus, pecans, walnuts, tree nuts, cucurbits, grapes, pome fruit, stone fruit, strawberries, melons, and non-residential lawns and ornamentals. In a Memorandum of Agreement dated May 17, 2011, Agan Chemical Manufacturing, Ltd. and Makhteshim Agan of North America, Inc. requested that EPA cancel dicofol product registrations identified in Table 1 of Unit III. Specifically, the dicofol registrants requested cancellation of their technical product registration as of May 17, 2011. The dicofol registrants request cancellation of their end-use products, not to be effective before October 31, 2013. The dicofol registrants have agreed to cease all production of dicofol as of May 17, 2011, and to cease all sales and distribution of dicofol end-use products by October 31, 2013. The dicofol registrants also requested amendments to dicofol end-use product registrations to add a condition of registration that as of August 31, 2011, the dicofol registrants will not sell or distribute dicofol end-use products that do not bear a prominent sticker prior to sale or distribution by the dicofol registrants that declares: “It is unlawful to use this product after October 31, 2016.” The Agency's action on the dicofol registrants' request will terminate the last dicofol products registered in the United States.

III. What action is the Agency taking?

This notice announces receipt by EPA of a request from registrants to cancel certain dicofol product registrations. The affected products and the registrants making the requests are identified in Tables 1 and 2 of this unit.

Unless the Agency determines that there are substantive comments that warrant further review of this request, EPA intends to issue an order canceling the affected registrations.

Table 1—Dicofol Product Registrations With Pending Requests for Cancellation
Registration No. | Product name | Company
11603-26 | Mitigan (Dicofol) Technical | Agan Chemical Manufacturing, Ltd.
66222-21 | MANA Dicofol 4e | Makhteshim Agan of North America, Inc.
66222-56 | Dicofol 4e | Makhteshim Agan of North America, Inc.
66222-95 | Dicofol 50WSB | Makhteshim Agan of North America, Inc.

Table 2 of this unit includes the names and addresses of record for the registrants of the products listed in Table 1 of this unit, in sequence by EPA company number. This number corresponds to the first part of the EPA registration numbers of the products listed in Table 1 of this unit.

Table 2—Registrants Requesting Voluntary Cancellation and/or Amendments
EPA Company No. | Company name and address
11603 | Agan Chemical Manufacturing, Ltd., 4515 Falls of Neuse Road., Suite 300, Raleigh, North Carolina 27609.
66222 | Makhteshim Agan of North America, Inc., 4515 Falls of Neuse Road, Suite 300, Raleigh, North Carolina 27609.

IV. What is the Agency's authority for taking this action?

Section 6(f)(1) of FIFRA provides that a registrant of a pesticide product may at any time request that any of its pesticide registrations be canceled or amended to terminate one or more uses. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The dicofol registrants have requested that EPA waive the 180-day comment period. Accordingly, EPA will provide a 30-day comment period on the proposed requests.

V. Provisions for Disposition of Existing Stocks

Existing stocks are those stocks of registered pesticide products that are currently in the United States and that were packaged, labeled, and released for shipment prior to the effective date of the action. If the request for voluntary cancellation is granted, the Agency intends to publish the cancellation order in the Federal Register.

In any order issued in response to this request for cancellation of product registrations, EPA proposes to include the following provisions for the treatment of any existing stocks of the products listed in Table 1 of Unit III.

Registrants of dicofol end-use products shall be allowed to sell and distribute existing stocks until October 31, 2013, and thereafter only for export consistent with the requirements of FIFRA section 17 or for purposes of proper disposal. Sale and distribution of existing stocks of any dicofol product by persons other than dicofol registrants shall be allowed until December 31, 2013, and thereafter only for products intended for export consistent with the requirements of FIFRA section 17 or for purposes of proper disposal. Use of existing stocks of any end-use product shall be allowed until October 31, 2016, and thereafter only for purposes of proper disposal.

List of Subjects

Environmental protection, Pesticides and pests.

Dated: June 7, 2011.
Richard P. Keigwin Jr.,
Director, Pesticide Re-evaluation Division, Office of Pesticide Programs.

[FR Doc. 2011-15245 Filed 6-21-11; 8:45 am]

BILLING CODE 6560-50-P